OFFICE OF PERSONNEL MANAGEMENT

Submission for Review 3206-0253: Leadership Assessment Surveys

AGENCY: Office of Personnel Management.

ACTION: 60-Day notice and request for comments.

SUMMARY: The Office of Personnel Management (OPM) intends to submit to the Office of Management and Budget (OMB) a request for review of a currently approved collection, Leadership Assessment Surveys. OPM is requesting approval of the OPM Leadership 360™, Leadership Potential Assessment, the OPM Personality Assessment for Leaders, the Leadership for Engagement Survey, the Leadership for Inclusion Survey, and the DEIA Pulse Survey as a part of this collection. Approval of these surveys is necessary to collect information on Federal agency performance and leadership effectiveness.

DATES: Comments are encouraged and will be accepted until December 16, 2024. This process is conducted in accordance with 5 CFR 1320.8(d)(1).

ADDRESSES: You may submit comments, identified by docket number and/or Regulatory Information Number and title, by the following method:

Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by contacting Human Resources Strategy and Evaluation Solutions, Office of Personnel Management, 1900 E Street, Rm. 2469 NW, Washington, DC 20415, Attention: Coty Hoover, C/O Henry Thibodeaux, via phone at 202-606-8001, or via email to Organizational_Assessment@opm.gov.

SUPPLEMENTARY INFORMATION: As required by the Paperwork Reduction Act of 1995, 44 U.S.C. 3506(c)(2), OPM is soliciting comments for this collection. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

OPM's Human Resources Strategy and Evaluation Solutions performs assessment and related consultation activities for Federal agencies on a reimbursable basis. The assessments are authorized by various statutes and regulations: Section 4702 of Title 5, U.S.C.; E.O. 12862; E.O. 13715; Section 1128 of the National Defense Authorization Act for Fiscal Year 2004, Public Law 108-136; 5 U.S.C. 1101 note, 1103(a)(5), 1104, 1302, 3301, 3302, 4702, 7701 note; E.O. 13197, 66 FR 7853, 3 CFR 748 (2002); E.O. 10577, 12 FR 1259, 3 CFR, 1954-1958 Comp., p. 218; and Section 4703 of Title 5, United States Code.

This collection request includes surveys we currently use and plan to use during the next three years to measure Federal leaders' effectiveness. These surveys all measure leadership characteristics. Non-Federal respondents will almost never receive more than one of these surveys. All these surveys consist of Likert-type, mark-one, and mark-all-that-apply items, and may include a small number of open-ended comment items. OPM's Leadership 360™ assessment measures the 28 competencies that comprise the five Executive Core Qualifications and Fundamental Competencies in the OPM leadership model. The OPM Leadership 360™ consists of 116 items and is almost never customized, although customization to meet an agency's needs is possible. OPM's Leadership Potential Assessment consists of 103 items focused on identifying individuals ready to move into supervisory positions. OPM's Personality Assessment for Leaders consists of 236 items that measure leadership personality characteristics within a “Big 5” framework. OPM's Leadership for Engagement and Leadership for Inclusion surveys consist of 140 items that measure 30 leadership behaviors and employees' perceptions of their work unit related to engagement and Diversity, Equity, Inclusion, and Accessibility (DEIA), respectively. The DEIA Pulse Survey consists of 50 items that provide leaders with information related to the demographics of their workforce, perceptions of the leader's policies, procedures, and practices related to DEIA, and attitudes toward working in the leader's organization. These assessments are almost always administered electronically.

Analysis

Agency: Office of Personnel Management.

Title: Leadership Assessment Surveys.

OMB Number: 3206-0253.

Frequency: On occasion.

Affected Public: Individuals.

Number of Respondents: Approximately 8,300 annually, 24,900 over 3 years.

Estimated Time per Respondent: 15 minutes for the OPM Leadership 360™ and Leadership Potential Assessment; 45 minutes for the OPM Personality Assessment for Leaders; 20 minutes for the Leadership for Engagement Survey and the Leadership for Inclusion Survey; and 10 minutes for the DEIA Pulse Survey. The OPM Personality Assessment for Leaders will almost never be administered to non-Federal employees so the average time to complete these surveys is approximately 16 minutes.

Total Burden Hours: 2,088 hours annually, 6,264 over 3 years.

Alexys Stanley,
Federal Register Liaison.

[FR Doc. 2024-23813 Filed 10-15-24; 8:45 am]

BILLING CODE 6325-43-P